DEPARTMENT OF ENERGY

Federal Energy Regulatory Commission

Combined Notice of Filings

Take notice that the Commission has received the following Natural Gas Pipeline Rate and Refund Report filings:

Filings Instituting Proceedings

Docket Numbers: RP22-568-000.

Applicants: Columbia Gas Transmission, LLC.

Description: Compliance filing: Annual Report on Operational Transactions 2022 to be effective N/A.

Filed Date: 2/18/22.

Accession Number: 20220218-5191.

Comment Date: 5 p.m. ET 3/2/22.

Docket Numbers: RP22-569-000.

Applicants: Hardy Storage Company, LLC.

Description: Compliance filing: Annual Report on Operational Transactions 2022 to be effective N/A.

Filed Date: 2/18/22.

Accession Number: 20220218-5192.

Comment Date: 5 p.m. ET 3/2/22.

Docket Numbers: RP22-570-000.

Applicants: Crossroads Pipeline Company.

Description: Compliance filing: Annual Report on Operational Transactions 2022 to be effective N/A.

Filed Date: 2/18/22.

Accession Number: 20220218-5196.

Comment Date: 5 p.m. ET 3/2/22.

Docket Numbers: RP22-571-000.

Applicants: Columbia Gulf Transmission, LLC.

Description: Compliance filing: Annual Report on Operational Transactions 2022 to be effective N/A.

Filed Date: 2/18/22.

Accession Number: 20220218-5212.

Comment Date: 5 p.m. ET 3/2/22.

Docket Numbers: RP22-572-000.

Applicants: Perryville Gas Storage LLC.

Description: § 4(d) Rate Filing: Perryville Gas Storage SubmitsTariff Modifications to be effective 3/21/2022.

Filed Date: 2/18/22.

Accession Number: 20220218-5218.

Comment Date: 5 p.m. ET 3/2/22.

Docket Numbers: RP22-573-000.

Applicants: Golden Pass Pipeline LLC.

Description: Compliance filing: Golden Pass Pipeline LLC 2021 Operational Purchases and Sales Report to be effective N/A.

Filed Date: 2/22/22.

Accession Number: 20220222-5094.

Comment Date: 5 p.m. ET 3/7/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-574-000.

Applicants: Golden Pass Pipeline LLC.

Description: § 4(d) Rate Filing: 2022 GPPL FERC Gas Tariff Clean Up to be effective 4/1/2022.

Filed Date: 2/22/22.

Accession Number: 20220222-5135.

Comment Date: 5 p.m. ET 3/7/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2022.
Debbie-Anne A. Reese,
Deputy Secretary.

[FR Doc. 2022-04128 Filed 2-25-22; 8:45 am]

BILLING CODE 6717-01-P